FEDERAL RESERVE SYSTEM

Change in Bank Control Notices; Acquisitions of Shares of a Bank or Bank Holding Company

The notificants listed below have applied under the Change in Bank Control Act (Act) (12 U.S.C. 1817(j)) and § 225.41 of the Board's Regulation Y (12 CFR 225.41) to acquire shares of a bank or bank holding company. The factors that are considered in acting on the applications are set forth in paragraph 7 of the Act (12 U.S.C. 1817(j)(7)).

The public portions of the applications listed below, as well as other related filings required by the Board, if any, are available for immediate inspection at the Federal Reserve Bank(s) indicated below and at the offices of the Board of Governors. This information may also be obtained on an expedited basis, upon request, by contacting the appropriate Federal Reserve Bank and from the Board's Freedom of Information Office at https://www.federalreserve.gov/foia/request.htm. Interested persons may express their views in writing on the standards enumerated in paragraph 7 of the Act.

Comments regarding each of these applications must be received at the Reserve Bank indicated or the offices of the Board of Governors, Ann E. Misback, Secretary of the Board, 20th Street and Constitution Avenue NW, Washington, DC 20551-0001, not later than April 7, 2021.

A. Federal Reserve Bank of St. Louis (Holly A. Rieser, Manager) P.O. Box 442, St. Louis, Missouri 63166-2034. Comments can also be sent electronically to Comments.applications@stls.frb.org:

1. Virginia Inez Fields, Austin, Texas; Sarah Elizabeth Smith, San Antonio, Texas; Cooper Harvey Smith and the Cooper Harvey Smith Irrevocable Trust dated 06-12-01 exempt share, both of Walnut Ridge, Arkansas; the Lillie Kathleen Smith Irrevocable Trust dated 07-20-98 exempt share, Stephanie Smith, trustee of both trusts, and both of Dallas, Texas; and Lillie Kathleen Smith, also of Dallas, Texas; to join the previously approved Smith family shareholder group, a group acting in concert to retain voting shares of First National Capital Corporation, and thereby indirectly retain voting shares of The First National Bank of Lawrence County at Walnut Ridge, both of Walnut Ridge, Arkansas.

B. Federal Reserve Bank of Chicago (Colette A. Fried, Assistant Vice President) 230 South LaSalle Street, Chicago, Illinois 60690-1414:

1. Donald L. Franzenburg Bank Stock Revocable Trust Agreement, Donald L. Franzenburg, as trustee, both of Keystone, Iowa; to retain voting shares of Keystone Community Bancorporation and thereby indirectly retain voting shares of Keystone Savings Bank, both of Keystone, Iowa.

Board of Governors of the Federal Reserve System, March 18, 2021.
Michele Taylor Fennell,
Deputy Associate Secretary of the Board.

[FR Doc. 2021-05973 Filed 3-22-21; 8:45 am]

BILLING CODE 6210-01-P